ENVIRONMENTAL PROTECTION AGENCY

40 CFR Part 52

[EPA-R09-OAR-2016-0096; FRL-9951-48-Region 9]

Air Plan Approval; Reno, Nevada; Second 10-Year Carbon Monoxide Maintenance Plan

AGENCY: Environmental Protection Agency (EPA).

ACTION: Direct final rule.

SUMMARY: The Environmental Protection Agency (EPA) is taking direct final action to approve a State Implementation Plan (SIP) revision submitted by the State of Nevada. On July 3, 2008, the EPA redesignated the Truckee Meadows area, consisting largely of the cities of Reno and Sparks in Washoe County, Nevada, from nonattainment to attainment for the carbon monoxide (CO) National Ambient Air Quality Standards (NAAQS) and approved the State's plan addressing the area's maintenance of the NAAQS for ten years. On November 7, 2014, the State of Nevada submitted to the EPA a second maintenance plan for the Truckee Meadows area that addressed maintenance of the NAAQS through 2030. The EPA is now approving this second maintenance plan. The EPA is also finding adequate and approving transportation conformity motor vehicle emissions budgets (MVEBs) for the years 2015, 2020, 2025 and 2030. We are taking these actions under the Clean Air Act (CAA or “the Act”).

DATES: This rule is effective on October 31, 2016 without further notice, unless the EPA receives adverse comments by September 29, 2016. If we receive such comments, we will publish a timely withdrawal in the Federal Register to notify the public that this direct final rule will not take effect.

ADDRESSES: Submit your comments, identified by Docket ID No. EPA-R09-OAR-2016-0096 at http://www.regulations.gov, or via email to John Kelly, Air Planning Office at kelly.johnj@epa.gov. For comments submitted at Regulations.gov, follow the online instructions for submitting comments. Once submitted, comments cannot be removed or edited from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: John Kelly, EPA Region IX, (415) 947-4151, kelly.johnj@epa.gov.

SUPPLEMENTARY INFORMATION: Throughout this document, “we,” “us,” and “our” refer to the EPA.

Table of Contents

I. Background

A. Truckee Meadows Attainment Status

B. 2014 Maintenance Plan

C. Transportation Conformity

II. The EPA's Evaluation of Nevada's Submittal

A. Ambient Air Quality Monitoring Data

B. Attainment Inventory

C. Maintenance Demonstration

D. Transportation Conformity

E. Ambient Air Quality Monitoring Network

F. Verification of Continued Attainment

G. Contingency Plan

III. Public Comment and Final Action

IV. Statutory and Executive Order Reviews

I. Background

A. Truckee Meadows Attainment Status

Under the CAA Amendments of 1990, the Truckee Meadows area (hereinafter referred to as Truckee Meadows, the Truckee Meadows area or the area), which includes the Reno-Sparks metropolitan area in Washoe County, Nevada, was designated and classified as a moderate CO nonattainment area.¹

¹ For a detailed description of air quality planning in the area, see the EPA's proposal to approve the first 10-year maintenance plan, published in the Federal Register on January 7, 2008, 73 FR 1175 at 1177. The CO attainment table in 40 CFR 81.329 lists the area as “Reno Area: Washoe County (part) Truckee Meadows Hydrographic Area 87.”

The primary CO NAAQS are attained when ambient concentration design values do not exceed either the 1-hour 35 parts per million (ppm) (or 10 milligrams per cubic meter) standard or the 8-hour 9 ppm (or 40 milligrams per cubic meter) standard more than once per year. See 40 CFR 50.8(a). According to monitoring data going back to 1980 in the EPA's ² Air Quality System (AQS), Truckee Meadows has not had a violation of the 1-hour CO standard.³ Regarding the 8-hour standard, the area has not had a violation since 1991.⁴ The EPA determined in 2005 that the area had attained the CO NAAQS by the area's December 31, 1995 attainment deadline. See 70 FR 22803 (May 3, 2005). This determination did not affect the designation of the area as nonattainment or its classification as a moderate area.

² The initials EPA, and the words “we,” “us,” or “our” mean or refer to the United States Environmental Protection Agency.

³ See Truckee Meadows 1980-2016 1-Hour CO Violation Day Count Report, data pulled from AQS on August 1, 2016.

⁴ 2014 Maintenance Plan, page 1. See also, Truckee Meadows 1991-2016 8-Hour CO Violation Day Count Report, data pulled from AQS on August 1, 2016, which verifies the District's assertion in the 2014 Maintenance Plan that there have been no 8-hour CO violations in the Truckee Meadows area since 1991. This report also includes more recent monitoring data (up through the first quarter of 2016) than the 2014 Maintenance Plan.

On November 4, 2005, the State of Nevada (“State” or “Nevada”) submitted a request to the EPA to redesignate Truckee Meadows from nonattainment to attainment for the CO NAAQS. Along with this request, the State submitted a CAA section 175A(a) maintenance plan, which demonstrated that the area would maintain the CO NAAQS for the first 10 years following our approval of the redesignation request (“2005 Maintenance Plan”). We approved the State's redesignation request and 10-year maintenance plan on April 2, 2008. See 73 FR 38124 (July 3, 2008). For a detailed history of the CO planning efforts in the area up to 2005, please see the EPA's proposal to approve the 2005 Maintenance Plan. See 73 FR 1175 at 1177 (January 7, 2008).

B. 2014 Maintenance Plan

Eight years after an area is redesignated to attainment, CAA section 175A(b) requires the State to submit a subsequent maintenance plan to the EPA, covering a second 10-year period.⁵ The second maintenance plan must demonstrate continued compliance with the NAAQS during this second 10-year period. To fulfill this requirement of the CAA, Nevada submitted the second 10-year update of the Truckee Meadows area CO maintenance plan to the EPA on November 7, 2014. The plan was developed by the Washoe County Health District's (District) Air Quality Management Division (AQMD) and is titled “Second 10-Year Maintenance Plan for the Truckee Meadows 8-Hour Carbon Monoxide Attainment Area, August 28, 2014” (hereinafter, “2014 Maintenance Plan” or “Plan”). The 2014 Maintenance Plan was adopted by the District's Board of Health on August 28, 2014. See Washoe County Board of Health Certificate of Adoption, August 28, 2014. Air quality planning and monitoring in Truckee Meadows is the responsibility of the District, which administers air quality programs in Washoe County through the AQMD. The State Environmental Commission and the Nevada Department of Motor Vehicles are responsible for the motor vehicle inspection and maintenance program in Truckee Meadows.

⁵ In this case, the initial maintenance period extends through 2018. Thus, the second 10-year period must extend at least through 2028. The District's demonstration is for maintenance through 2030.

C. Transportation Conformity

Section 176(c) of the Act defines conformity as meeting the SIP's purpose of eliminating or reducing the severity and number of violations of the NAAQS and achieving expeditious attainment of such standards. The Act further defines transportation conformity to mean that no Federal transportation activity will: (1) Cause or contribute to any new violation of any standard in any area; (2) increase the frequency or severity of any existing violation of any standard in any area; or (3) delay timely attainment of any standard or any required interim emission reductions or other milestones in any area. The federal transportation conformity rule, 40 CFR part 93 subpart A, sets forth the criteria and procedures for demonstrating and assuring conformity of transportation plans, programs and projects which are developed, funded or approved by the U.S. Department of Transportation, and by metropolitan planning organizations or other recipients of Federal funds under Title 23 U.S.C. or the Federal Transit Laws.

The transportation conformity rule applies within all nonattainment and maintenance areas. As prescribed by the transportation conformity rule, once an area has an applicable SIP with MVEBs, the expected emissions from planned transportation activities must be consistent with such established budgets for that area.

II. The EPA's Evaluation of Nevada's Submittal

The 2014 Maintenance Plan contains the following major sections: (1) An introductory section containing a general discussion of plan approvals and the area's redesignation to attainment; and (2) a maintenance plan section including subsections on the attainment emissions inventory, a maintenance demonstration, MVEBs, the area's monitoring network, verification of continued attainment, and a contingency plan. See 2014 Maintenance Plan, Chapters 1 and 2.

Following is the EPA's evaluation of the 2014 Maintenance Plan under the CAA, the EPA's implementing regulations and relevant guidance.

A. Ambient Air Quality Monitoring Data

As noted above, the primary NAAQS for CO are: 9 ppm (or 10 milligrams per cubic meter) for an 8-hour average concentration not to be exceeded more than once per year and 35 ppm (or 40 milligrams per cubic meter) for a 1-hour average concentration not to be exceeded more than once per year. See 40 CFR 50.8(a).

The 2014 Maintenance Plan includes a summary of 8-hour CO design values for the years 2008 to 2013. See 2014 Maintenance Plan, Table 1-1, page 2. In addition, the EPA examined monitoring data for Truckee Meadows for the last ten years, including a large portion of the period covered by the first maintenance plan. Table 1 shows the complete, quality assured and certified ambient air monitoring design values for CO in the area for the years 2006 to 2015 and preliminary data for 2016. The first maintenance plan covers the years 2008-2018. The year 2015 is the last year for which we have complete, quality assured and certified ambient air monitoring design values for CO in the area. The monitoring data show that CO design values in the Truckee Meadows area have been well below the level of the NAAQS throughout the last decade.

⁶ Design values were derived from AQS. The EPA notes that the 8-hour CO design value given in the 2014 Maintenance Plan for the year 2011 (i.e., 2.9 ppm) appears to be in error and should actually be as shown (i.e., 2.6 ppm). For 1-hour CO design values, see the Truckee Meadows 1-Hour CO 2006-2016 Maximum Values Report, dated August 1, 2016. For 8-hour CO design values, see the Truckee Meadows 8-Hour CO 2006-2016 Maximum Values Report, dated August 1, 2016.

⁷ Preliminary design values for 2016 through March 31, 2016. See Truckee Meadows 2016 1-hour Completeness Report, dated August 1, 2016.

Table 1—CO Design Values for Truckee Meadows, NV, Years 2006-2015
Design Values (ppm) ⁶: 1-Hour | Design Values (ppm) ⁶: 8-Hour | Years
4.8 | 3.3 | 2006
4.7 | 3.3 | 2007
3.9 | 2.9 | 2008
4.2 | 2.6 | 2009
3.1 | 2.6 | 2010
3.4 | 2.6 | 2011
2.8 | 2.3 | 2012
2.8 | 2.4 | 2013
3.2 | 2.4 | 2014
2.7 | 2.0 | 2015
2.2 | 1.5 | ⁷ 2016

B. Attainment Inventory

Due to the area's status at the time as moderate nonattainment for the CO standards, the District developed a 1990 baseline emissions inventory and has continued to update the inventory pursuant to CAA requirements every three years. The most recent inventory at the time the state submitted the 2014 Maintenance Plan was for the year 2011. The District is using the 2011 emissions inventory, adjusted down due to unusually high wildfire emissions that occurred that year, as the attainment inventory. The District refers to this attainment inventory as the Truckee Meadows maintenance emissions limit. With the level of emissions that occurred in 2011, the area still attained the CO standards. Levels at or below the downward-adjusted 2011 emissions (that is, the Truckee Meadows maintenance emissions limit) are therefore expected to maintain the standards. The unadjusted emissions levels are presented in Table 2. The District then adjusts the nonpoint source category to reflect more representative wildfire emissions, and then uses the adjusted total emissions for the area as the maintenance emissions limit, as explained in section III.C below.

Table 2—2011 CO Inventory
Source category | 2011 Inventory (pounds per day)
Point | 3,361
Nonpoint | 154,956
Non-road | 50,706
On-road | 163,500
Total * | 372,522
* Totals may not add up due to rounding.

The EPA finds that the 2011 inventory information presented by the District is acceptable and consistent with the source category amounts and totals for the 2011 National Emissions Inventory for Washoe County, with one exception. The District's information does not account for railroad (locomotive) emissions. Locomotive emissions would add 3.6 tons per year of CO emissions to the area, or 19.7 pounds per day (lbs/day). Compared to a total inventory of 372,522 lbs/day, however, the omission of railroad emissions amounts to less than 0.01% of the total CO emissions for the area, and the EPA therefore does not believe the omission to be significant.

C. Maintenance Demonstration

In general, a state may demonstrate that an area will maintain the NAAQS by showing that future emissions will not exceed the level of the attainment inventory.⁸ Attainment must be demonstrated for the 10-year period following the first ten years covered by the initial maintenance plan. For the Truckee Meadows area, the first maintenance period ranges from 2008, when the EPA approved the area's redesignation request and maintenance plan, through the year 2018. In the 2014 Maintenance Plan, the District must also demonstrate attainment for the 10-year period following the first ten years. The 2014 Maintenance Plan covers a portion of the first 10-year period (through 2018), as well as the second ten years, 2018 through 2028. In addition, a state may go beyond the minimum requirements of the CAA. The District has elected to make the horizon year for this Plan 2030 for the convenience of transportation planning.

⁸ See the EPA's September 4, 1992 John Calcagni memorandum entitled “Procedures for Processing Requests to Redesignate Areas to Attainment,” at page 9, available online at: https://www.epa.gov/sites/production/files/2016-03/documents/calcagni_memo_-_procedures_for_processing_requests_to_redesignate_areas_to_attainment_090492.pdf.

Although the 2005 Maintenance Plan addresses maintenance through the year 2018, the emissions projections of the 2014 Maintenance Plan replace those from the previous plan. The District's rationale is that there are now better planning assumptions and improved emissions calculation methodologies that were not available in developing the previous plan. Updated methodologies include the change from using MOBILE6 mobile source modeling software, used for the 2005 Maintenance Plan, to the MOVES model used for the 2014 Maintenance Plan.

As noted above, the District used its 2011 periodic emissions inventory ⁹ to develop the baseline 2011 “maintenance emissions limit” for the Truckee Meadows area, which is then used to compare future emissions inventories for the purpose of verifying continued attainment of the CO NAAQS as long as those future emissions are lower than the maintenance emissions limit.

⁹ See Washoe County, Nevada: 2011 Periodic Emissions Inventory and Appendices A, B, and C.

As shown in Table 3, for most emissions categories, the District simply used emission levels from the 2011 periodic emissions inventory to develop its 2011 maintenance emissions limit. However, for wildfires, the District noted that 2011 was an unusually active year for wildfires, with corresponding CO emissions of 105,092 lbs/day. To approximate more typical wildfire emissions for purposes of producing the 2011 Truckee Meadows maintenance emissions limit, the District used the average of wildfire emissions for the four previous inventory years (1999, 2002, 2005, and 2008). That average is 217 lbs/day, which the District used to adjust the nonpoint source category. Due to this adjustment, total nonpoint emissions for the nonpoint source category are 50,081 lbs/day for the maintenance emissions limit, as compared with 154,956 lbs/day in the 2011 emissions inventory, as shown in Table 3. See 2014 Maintenance Plan, Table 2-3.

Table 3—Truckee Meadows CO Emissions Inventories, in Pounds per Day
Source category | 2011: Periodic inventory (lbs/day) | 2011: Maintenance emissions limit (lbs/day)
Point | 3,361 | 3,361
Nonpoint | 154,956 | 50,081
Non-Road Mobile | 50,706 | 50,706
On-Road Mobile | 163,500 | 163,500
Total * | 372,522 | 267,648
* Totals may not add up due to rounding.

The District supports its use of 267,648 lbs/day maintenance emissions limit as the attainment inventory because it uses the most accurate emissions inventory methodologies, is a current and comprehensive emissions inventory, identifies the level of emissions in the Truckee Meadows area sufficient to maintain the CO standards, and will be the emissions inventory most consistent with the 2030 projected inventory required for demonstrating maintenance of the CO standards. See 2014 CO Maintenance Plan, page 6.

The District used the following methodologies or models, as described in EPA guidance,¹¹ to project the 2011 maintenance emissions limit (i.e. the 2011 periodic emissions inventory adjusted to exclude unusually high wildfire emissions) out to future milestone years 2015, 2020, 2025 and 2030 for each of the emissions source categories, in order to demonstrate continued maintenance with the CO NAAQS.

¹⁰ See “Procedures for Preparing Emissions Projections,” EPA-450/4-91-019, July 1991, available online at https://www.epa.gov/nscep.

1. Baseline Emissions Projections. Washoe County's 2030 population, employment and vehicle miles travelled (VMT) forecasts (2014 Maintenance Plan, Appendix A) were used as surrogates to project the 2030 emissions, and were consistent with those used by the local metropolitan planning organization.

2. EPA Models. Non-road and on-road motor vehicle categories accounted for approximately 59% of the 2011 emissions inventory. To ensure consistency throughout the maintenance demonstration period, the same non-road and on-road models were used to estimate the 2030 projected emissions inventory.

3. Emissions Category Surveys. The District uses surveys to estimate emissions from residential wood combustion (RWC). The District applied an adjustment factor based on heating degree days to the most recent survey (conducted in 2012-2013) to project RWC emissions from 2015 through 2030. See 2014 Maintenance Plan, Appendix A.1

Table 4 lists the 2011 Truckee Meadows maintenance emissions limit and projected emissions for 2015, 2020, 2025 and 2030 for the four major CO emissions source categories in the area. See 2014 Maintenance Plan, Table 2-4. The District provides a more detailed inventory for 2011 and projected future years in the 2014 Maintenance Plan, Appendix B.

Table 4—Truckee Meadows CO Maintenance Emissions Inventories (lbs/day)
Source category | 2011 * | 2015 | 2020 | 2025 | 2030
Point | 3,361 | 3,768 | 4,357 | 4,974 | 5,678
Nonpoint | 50,081 | 47,820 | 45,236 | 42,845 | 40,355
Non-Road | 50,706 | 43,725 | 45,385 | 48,320 | 51,656
On-Road | 163,500 | 150,330 | 140,129 | 138,938 | 142,686
Total ** | 267,648 | 245,642 | 235,107 | 235,077 | 240,375
* Truckee Meadows maintenance emissions limit.
** Totals may not add up due to rounding.

The District projects that population, number of households, employment and VMT will increase through 2030 and beyond, but that federally enforceable CO control programs targeting gasoline-powered motor vehicles, RWC and diesel-powered motor vehicles will help offset this growth. Because future emissions are not projected to exceed the level of the 2011 Truckee Meadows maintenance emissions limit of 267,648 lbs/day, the District asserts that the CO NAAQS will be maintained through the maintenance demonstration period.¹¹

¹¹ Although the summary paragraph following Table 2-4 in the plan compares future year projections shown in the table to the “2011 Truckee Meadows maintenance emissions inventory,” EPA believes that the District clearly intended to make the comparison to the “Truckee Meadows Maintenance Emissions Limit,” as the District stated in this single-asterisk (*) note to the table. See 2014 Maintenance Plan, page 7.

The EPA agrees with the District's conclusion. Even with the growth expected in the area in the future, overall emissions of CO in the area are declining and provide assurance that the area will not violate the CO standard in the future. With respect to wildfire emissions, we find that the District's approach of adjusting both the attainment inventory (i.e., the maintenance emissions limit) and the projected future year emissions inventories to exclude unusually high 2011 wildfire emissions is reasonable.

D. Transportation Conformity

Transportation conformity is required by section 176(c) of the CAA. Conformity to a SIP means that transportation activities will not produce new air quality violations, worsen existing violations, or delay timely attainment of the NAAQS. See CAA section 176(c)(1)(B). The EPA's conformity rule at 40 CFR part 93, subpart A requires that transportation plans, programs and projects conform to SIPs and establishes the criteria and procedures for determining whether or not they conform. To effectuate its purpose, the conformity rule generally requires a demonstration that emissions from the Regional Transportation Plan and the Transportation Improvement Program are consistent with the MVEBs contained in the applicable control strategy SIP revision or maintenance plan. See 40 CFR 93.101, 93.118, and 93.124. An MVEB is defined as the level of mobile source emissions of a pollutant relied upon in the attainment or maintenance demonstration to show compliance with the NAAQS in the nonattainment or maintenance area.¹²

¹² Further information concerning the EPA's interpretations regarding MVEBs can be found in the preamble to the EPA's November 24, 1993, transportation conformity rule (see 58 FR 62193-62196).

The EPA's process for determining adequacy of a MVEB consists of three basic steps: (1) Notifying the public of a SIP submission; (2) providing the public the opportunity to comment on the MVEB during a public comment period; and, (3) making a finding of adequacy or inadequacy. See 40 CR 93.118(f). In order for us to find an MVEB adequate and approvable, the submittal must meet the conformity adequacy provisions of 40 CFR 93.118(e)(4) and (5). The 2005 Maintenance Plan established CO MVEBs (in terms of pounds per typical CO season day) of 330,678 pounds per typical CO season day in year 2010 and 321,319 pounds per typical CO season day in year 2016. The EPA found the CO MVEBs adequate for transportation conformity purposes effective March 30, 2006 (March 15, 2006, 71 FR 13386) ¹³ and approved the MVEBs on July 3, 2008 (73 FR 38124).

¹³ See also letter from Deborah Jordan, Director, U.S. EPA Region 9 Air Division, to Leo M. Drozdoff, P.E., Director, Nevada Division of Environmental Protection, dated February 14, 2006, available online at: https://www3.epa.gov/otaq/stateresources/transconf/adequacy/ltrs/truckee033006.pdf.

The 2014 Maintenance Plan establishes new MVEBs for CO, as shown in Table 5.

Table 5—Transportation Conformity Motor Vehicle Emissions Budgets for the Truckee Meadows CO Maintenance Area
[lbs/day]
Year | 2015 | 2020 | 2025 | 2030
CO MVEB | 172,336 | 172,670 | 171,509 | 169,959

The District developed these MVEBs using emissions inventory projections for the years 2015 through 2030. The MVEBs include on-road vehicles, heavy duty diesel vehicle idling, and a safety margin. The latter is the excess emissions between the total projected emissions for a specific year and the 2011 maintenance emissions limit. We note that the MVEBs in the 2014 Maintenance Plan differ from those contained for similar years in the 2005 Maintenance Plan. These differences are due to the use of the latest planning assumptions for the transportation network, including VMT, vehicle speeds and vehicle population for passenger cars and trucks, in the development of the Washoe County 2011 periodic emissions inventory. As in previous periodic emissions inventories, these planning assumptions were consistent with those used by the local metropolitan planning organization for their transportation plans.

We are not announcing the availability of these MVEBs through the EPA's Adequacy Web site and providing a separate comment period on the adequacy of the MVEBs. Instead, we are reviewing the adequacy of the MVEBs simultaneously with our review of the 2014 Maintenance Plan itself. See 40 CFR 93.118(f)(2). In order to determine whether these MVEBs are adequate and approvable, we have evaluated whether the MVEBs meet the conformity adequacy provisions of 40 CFR 93.118(e)(4) and (5) and have determined that the MVEBs meet the applicable criteria. These criteria include, for example, that the MVEBs are clearly identified and precisely quantified, that the Plan shows a clear relationship among the emissions budgets, control measures and the total emissions inventory, among other criteria. The details of the EPA's evaluation of the MVEBs are provided in a memo to file for this rulemaking.¹⁴

¹⁴ See memo from John J. Kelly, Air Planning Office, EPA Region 9, to Docket EPA-R09-OAR-2016-0096, dated August 5, 2016.

In accordance with the State's request and the EPA's evaluation, with this action the EPA finds adequate and approves CO MVEBs for the years 2015, 2020, 2025 and 2030. Upon the effective date of this action, the Washoe County Regional Transportation Commission and the U.S. Department of Transportation must use these budgets in future conformity analyses. Any and all comments on the adequacy and approvability of the 2015, 2020, 2025 or 2030 MVEBs should be submitted during the comment period stated in the DATES section of this document.

E. Ambient Air Quality Monitoring Network

The District has maintained an ambient air quality monitoring network in Washoe County, including the Truckee Meadows area, in accordance with the EPA's ambient air quality monitoring network regulations in 40 CFR part 58. Monitors are operated by the District, and they submit an Annual Network Plans (ANPs) for the County to the EPA.

The EPA is currently reviewing the 2016 ANP submitted by the District.¹⁵ The EPA approved the District's previous ANPs, the most recent three of which were submitted to the EPA by the District in 2013,¹⁶ 2014 ¹⁷ and 2015.¹⁸ The docket to this action includes these approvals and the associated ANPs, as well as the ANP currently under review.

¹⁵ “Washoe County Health District Air Quality Management Division 2016 Ambient Air Monitoring Network Plan,” dated July 1, 2016.

¹⁶ “Washoe County Health District Air Quality Management Division 2013 Ambient Air Monitoring Network Plan,” dated July 1, 2013 and our approval, letter from Meredith Kurpius, Manager, Air Quality Analysis Office, U.S. EPA Region 9 to Daniel Inouye, Chief, Monitoring and Planning Branch, Air Quality Management Division, Washoe County Health District, dated December 11, 2013.

¹⁷ “Washoe County Health District Air Quality Management Division 2014 Ambient Air Monitoring Network Plan,” dated July 1, 2014 and our approval, letter from Meredith Kurpius, Manager, Air Quality Analysis Office, U.S. EPA Region 9 to Daniel Inouye, Chief, Monitoring and Planning, Air Quality Management Division, Washoe County Health District, dated October 29, 2014.

¹⁸ “Washoe County Health District Air Quality Management Division 2015 Ambient Air Monitoring Network Plan,” dated July 1, 2015 and our approval, letter from Meredith Kurpius, Manager, Air Quality Analysis Office, U.S. EPA Region 9 to Daniel Inouye, Chief, Monitoring and Planning, Air Quality Management Division, Washoe County Health District, dated October 21, 2015.

In addition to reviewing the District's ANPs, the EPA performs Technical Systems Audits (TSAs) of ambient air monitoring programs in accordance with 40 CFR part 58, appendix A, section 2.5, which requires that the EPA conduct a TSA of each primary quality assurance organization (PQAO) every three years. A PQAO is an organization that is responsible for a set of stations that monitor the same pollutant and for which data quality assessments can be pooled. The District is the PQAO for CO monitoring in Washoe County, which includes the Truckee Meadows area. See 40 CFR 58.1.

The most recent TSA for the District was conducted by the EPA in 2016, but the report for that TSA has not yet been finalized. The most recent TSA for which the final report is available was conducted in 2013. The EPA found that the District's air monitoring program was robust and met the EPA's requirements. There were no findings that were cause for data invalidation.¹⁹

¹⁹ See letter from Deborah Jordan, Director, U.S. EPA Region 9 Air Division, to Charlene Albee, Director, Air Quality Management Division, Washoe County Health District, dated August 19, 2014, transmitting a report titled “Technical System Audit Report, Washoe County Health District Air Quality Management Division Ambient Air Monitoring Program (September 4-6, 2013).”

In the 2014 Maintenance Plan, the District commits to continued operation of its CO monitoring network, in accordance with 40 CFR part 58, to verify the attainment status of the Truckee Meadows area. See 2014 Maintenance Plan, page 8. In addition, the District will continue to review the Washoe County CO monitoring network pursuant to 40 CFR 58.10 to ensure the network meets the monitoring objectives defined in 40 CFR part 58, appendix D. Funding for the monitoring network to meet its objectives has been derived in the past primarily from CAA section 105 grants and the State's Department of Motor Vehicles. The District commits to maintaining these funding sources. See 2014 Maintenance Plan, page 8.

The District commits to the continuation of collecting and quality-assuring ambient CO monitoring data in accordance with 40 CFR part 58 and to providing the data to the EPA's AQS. The data will therefore be available for public review. See 2014 Maintenance Plan, page 9.

Table 6 lists the active Washoe County CO monitoring sites identified in the Plan. See 2014 Maintenance Plan, page 9, Table 2-7. As noted in the footnotes to the table, two of the monitoring sites have since discontinued CO monitoring (i.e., South Reno and Galletti), and the District has indicated that it intends to submit to the EPA a request to shut down two more sites (i.e., Toll and Lemmon Valley). The EPA notes that the Lemmon Valley monitoring site is within Washoe County but is not located in the Truckee Meadows area.

Table 6—Active Washoe County CO Monitoring Sites
Site ID | Site name | Site address | City
32-031-0016 | Reno3 | 301A State Street | Reno.
32-031-0020 | South Reno * | 4110 DeLucchi Lane | Reno.
32-031-0022 | Galletti * | 305 Galletti Way | Reno.
32-031-0025 | Toll ** | 684A State Route 341 | Reno.
32-031-1005 | Sparks | 750 4th Street | Sparks.
32-031-2009 | Lemmon Valley ** | 325 W. Patrician Drive | Reno.
* The District discontinued CO monitoring at the South Reno and Galletti monitoring sites in 2014. Details of these network modifications, as well as copies of the EPA's approval letters, can be found in the District's 2015 ANP (Appendices A and B).
** In its 2016 ANP, the District indicates it will seek EPA approval to discontinue CO monitoring at the Toll and Lemmon Valley monitoring sites, but will not discontinue monitoring at these locations without such approval. See the District's 2016 ANP.

The District is required to maintain a CO monitor at the Reno3 site. See 40 CFR part 58, appendix D, section 3. Other CO monitoring sites are not required for Washoe County by the EPA's minimum monitoring requirements. See 40 CFR part 58, appendix D, section 4.2.

Based on the information in the 2014 Maintenance Plan, as well as recent ANPs and the 2013 TSA report, the EPA has determined that the area's air quality monitoring network meets the requirements of the CAA and implementing regulations in 40 CFR part 58.

F. Verification of Continued Attainment

To support the District's continued operation and maintenance of the Washoe County ambient CO monitoring network, the District also commits to tracking actual CO emissions, in order to identify potential increases in ambient CO concentration. The District has three existing mechanisms to track CO emissions.

1. Periodic Emissions Inventories. The District commits to continuing to prepare and submit to the EPA a comprehensive periodic CO emissions inventory on a triennial schedule. Prior to submittal of the 2014 Maintenance Plan, the last periodic emissions inventory prepared was for the year 2011. See 2014 Maintenance Plan, page 9. In addition, the District has prepared and submitted to the EPA a periodic emissions inventory for the area for 2014.

2. Consolidated Emissions Reporting Rule (CERR) and Air Emissions Reporting Rule (AERR). The EPA's AERR (40 CFR part 51 subpart A), which incorporates the former CERR, requires regular updates of point and area emissions sources within Washoe County. The District commits to continued compliance with the CERR and AERR. See 2014 Maintenance Plan, page 10.

3. Residential Wood Use Survey. RWC is a significant source of CO emissions during the winter in Truckee Meadows. Between 1993 and 2013, the District completed nine residential wood use surveys. These surveys estimated the device (i.e., fireplace, woodstove and pellet stove) population, the amount of wood burned, and CO emissions from RWC in Washoe County. As part of the 2014 Maintenance Plan, the District renews the commitment it made in the 2005 Maintenance Plan to conduct a residential wood use survey at least once every three years. See 2014 Maintenance Plan, page 10.

The EPA agrees with the District that continued ambient air monitoring and emissions tracking will ensure verification of continued attainment and maintenance of the 8-hour CO NAAQS within the Truckee Meadows area.

G. Contingency Plan

Section 175A of the CAA requires that a maintenance plan include contingency provisions, as necessary, to promptly correct any violation of a NAAQS that occurs after the redesignation to attainment of an area for that NAAQS. As a maintenance area for CO, this requirement applies to Truckee Meadows. According to the EPA's guidance,²⁰ the contingency plan for a maintenance area should clearly identify the following:

²⁰ EPA's September 4, 1992 memorandum entitled “Procedures for Processing Requests to Redesignate Areas to Attainment,” at page 12, available online at: https://www.epa.gov/sites/production/files/2016-03/documents/calcagni_memo_-_procedures_for_processing_requests_to_redesignate_areas_to_attainment_090492.pdf.

• Specific indicators or triggers that will be used to determine when contingency measures need to be implemented;

• contingency measures to be adopted;

• schedule and procedures for adoption and implementation; and

• specific time limit for action.

The following is the EPA's analysis of the 2014 CO Maintenance Plan's contingency plan regarding the above four criteria:

The 2014 Maintenance Plan identifies significant sources that contribute to the highest CO concentrations during the winter CO season months, November through January. The 2014 Maintenance Plan includes a two-tiered contingency plan based on ambient air monitoring data.

As part of the EPA's approval into the SIP of the 2005 Maintenance Plan, we approved a contingency plan for the area. Part of the contingency plan (“Tier 1”), as discussed in greater detail below, relies entirely on the area's emergency episode plan. Such plans are required under CAA section 110(a)(2)(G). We approved the District's emergency episode plan on June 18, 2007 (72 FR 33397).

1. Contingency Plan Tier 1

a. Specific Indicators or Triggers Which Will Be Used To Determine When Contingency Measures Need To Be Implemented

The Tier 1 trigger mechanism is a single exceedance of the 8-hour CO standard, that is, a monitored concentration greater than or equal to 9 ppm (9.5 ppm to adjust for rounding), at any State and Local Air Monitoring Station (SLAMS), Special Purpose Monitoring (SPM) or national Core Multi-Pollutant Monitoring Station (NCore) site operated within Washoe County. The EPA notes that this trigger is protective of the 8-hour CO NAAQS in three respects.

First, it takes two non-overlapping CO exceedances to violate the standard. The CAA requires that, at a minimum, contingency measures be triggered when the standard is violated. In the 2014 Maintenance Plan, the District is committing to triggering this Tier 1 portion of its contingency plan with a single exceedance. This entails implementation of a contingency measure upon an exceedance of the CO NAAQS, before the NAAQS is violated.

Second, the trigger for Tier 1 can occur at any monitor in the County. This is more protective of the CO NAAQS than would otherwise be required by the Act in that the District is required to trigger Tier 1 using an exceedance of any monitor in Washoe County, rather than relying only on the monitors within the Truckee Meadows maintenance area within the County.

Third, implementation of Tier 1 would occur in the entire jurisdiction of the District, that is, County-wide. Controls related to the Stage 1 Alert episode would be implemented in the entire County, which could benefit the Truckee Meadows area within the County.

b. The Contingency Measures To Be Adopted

As we noted above, the EPA has already approved the District's emergency episode plan into the SIP. This emergency plan currently is triggered, independent of any contingency plan, during any monitored or predicted concentration at a level of 9.4 ppm or above. Once the emergency plan is triggered, the duration of its implementation depends on the circumstances of the episode, regarding monitored and predicted levels of CO.

In the Tier 1 contingency measure, the District will initiate a rulemaking to permanently lower the County-wide Stage 1 Alert activation level from 9.4 ppm down to 9.0 ppm. The District will initiate this rulemaking if a monitored CO concentration is above 9.4 ppm (i.e., 9.5 ppm or above). Monitors that can activate Tier 1 include any monitor in the entire County, that is, not just within the Truckee Meadows area. For informational purposes, Table 7 lists the actions the District takes once a Stage 1 Alert level is either recorded or predicted for the County. See 2014 Maintenance Plan, page 11. When Tier 1 is triggered, the District will initiate a specific rulemaking change for adoption by the District's Board of Health (WCDBOH). In the event Tier 1 is triggered, the District would initiate revision of WCDBOH Regulation 050.001, Emergency Episode Plan (adopted March 23, 2006). The rule revision would revise the Stage 1 Alert level from the current level of 9.4 ppm down to the lower level of 9.0 ppm.

Table 7—Stage 1 Alert Episode Actions
Stage 1 alert episode action description | WCDBOH regulation No.
Terminate open burning | 040.035 and 050.001.
Terminate use of incinerators subject to District operating permits | 050.001.
Curtailment of unnecessary motor vehicle use through the District's public outreach program | 050.001.
Prohibition of the burning of solid fuel in any commercial or residential stoves and/or fireplaces with the Truckee Meadows area | 040.051 and 050.001.
Curtailment of all District permitted sources that have the potential to emit 50 tons or more of CO per year with the Truckee Meadows area | 050.001.

c. A Schedule and Procedures for Adoption and Implementation

The implementation schedule the District identifies in the 2014 Maintenance Plan is meant to begin the rulemaking process promptly. The rule revision must be adopted by the WCDBOH and implemented before the next CO season (i.e., November, December and January).

The District also commits to notify the EPA Region 9 office within 45 days of the triggering of tier 1. See 2014 Maintenance Plan, page 11.

d. A Specific Time Limit for Action

The schedule discussed above provides a specific time limit for action by the Board in that the rule revision is to be adopted and implemented before the next CO season.

2. Contingency Plan Tier 2

a. Specific Indicators or Triggers Which Will Be Used To Determine When Contingency Measures Need To Be Implemented

The Tier 2 trigger mechanism is a second, non-overlapping exceedance of the 8-hour CO standard (i.e., greater than or equal to 9.5 ppm to adjust for rounding) at any SLAMS, SPM or NCore site operated within Washoe County. The EPA notes that only a second non-overlapping exceedance at the same monitor would constitute a violation of the 8-hour CO NAAQS, so this approach is more protective of the standard than is required by the form of the standard itself. Also, the EPA notes that this trigger is also more protective of the CO NAAQS than is required because it goes beyond the boundary of the Truckee Meadows area and encompasses the entire Washoe County District.

b. The Contingency Measures To Be Adopted

For Tier 2, the District will maintain a list of potential contingency measures and provide recommendations to the WCDBOH. The District's recommendations to the Board will include a timeline for adoption and implementation to promptly correct any violation of the CO NAAQS. The list of Tier 2 potential contingency measures are shown in Table 8. See 2014 CO Maintenance Plan, Table 2-8.

Table 8—Tier 2 Potential Contingency Measures
Emission category | Potential contingency measure
Residential Wood Combustion | • Increase one-acre lot size exemption. • Mandatory curtailment at lower CO concentrations. • Change-out program to cleaner-burning devices.
Mobile Sources | • Strengthen inspection and maintenance smog check program. • Reinstate oxygenated fuels program. • Non-road and on-road diesel engine repowers and rebuilds. • Truck Stop Electrification systems. • Fleet modernization. • Strengthen maximum idling time for diesel vehicles.

c. A Schedule and Procedures for Adoption and Implementation

The implementation schedule the District identifies in the 2014 Maintenance Plan is meant to begin the rulemaking process promptly. No later than 45 days after Tier 2 is triggered, recommendations shall be presented to the Board at its next regularly scheduled meeting. The District commits to review and update as necessary the list of potential Tier 2 contingency measures at least once every three years. See 2014 Maintenance Plan, page 12. The District also commits to notify the EPA Region 9 office within 45 days of the triggering of Tier 2. See 2014 CO Maintenance Plan, page 12.

d. A Specific Time Limit for Action

The schedule discussed above for Tier 2 implementation provides a specific time limit for action by the Board. Rule revision recommendations are to be presented to the Board within a set time frame, and the Board will review and update the recommendations, as necessary, but not less than once every three years. Further, the time frame for the District to provide recommendations to the Board requires the District to present at the Board's next scheduled meeting, but no later than 45 days after triggering Tier 2. The Board typically meets every month.

Tier 2 also involves a regular review of CO control measures by the District and the Board. This review occurs at least once every three years regardless of whether there is an exceedance of the CO NAAQS.

3. Contingency Plan Conclusion

The EPA agrees with the District that prompt action and implementation of Tier 1 and Tier 2 contingency measures may prevent future exceedances and violations of the 8-hour CO NAAQS. The EPA believes the District's two-tiered contingency plan will promptly address violations if they do occur. Triggering contingency measures at monitored concentration levels that exceed, but do not violate the standard, is an important component of this approach.

III. Public Comment and Final Action

As authorized in section 110(k)(3) of the Act, the EPA is fully approving the State of Nevada's second 10-year maintenance plan, titled “Second 10-Year Maintenance Plan for the Truckee Meadows 8-Hour Carbon Monoxide Attainment Area, August 28, 2014.” We are also approving MVEBs for the years 2015, 2020, 2025 and 2030.

We do not think anyone will object to these approvals, so we are finalizing them without proposing them in advance. However, in the Proposed Rules section of this Federal Register, we are simultaneously proposing approval of the same submitted Plan and MVEBs. If we receive adverse comments by September 29, 2016, we will publish a timely withdrawal in the Federal Register to notify the public that the direct final approval will not take effect and we will address the comments in a subsequent final action based on the proposal. If we do not receive timely adverse comments, the direct final approval will be effective without further notice on October 31, 2016. This will incorporate this plan into the federally enforceable SIP and require use of the new MVEBs in all future CO conformity analyses.

IV. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the CAA. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 31, 2016. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the Proposed Rules section of today's Federal Register, rather than file an immediate petition for judicial review of this direct final rule, so that the EPA can withdraw this direct final rule and address the comment in the proposed rulemaking. This action may not be challenged later in proceedings to enforce its requirements (see section 307(b)(2)).

List of Subjects in 40 CFR Part 52

Environmental protection, Air pollution control, Carbon monoxide, Incorporation by reference, Intergovernmental relations, Reporting and recordkeeping requirements.

Dated: August 15, 2016.
Alexis Strauss,
Acting Regional Administrator, Region IX.

Chapter I, title 40 of the Code of Federal Regulations is amended as follows:

PART 52—APPROVAL AND PROMULGATION OF IMPLEMENTATION PLANS

1. The authority citation for Part 52 continues to read as follows:

Authority: 42 U.S.C. 7401 et seq.

Subpart DD—Nevada

2. Section 52.1470, paragraph (e) is amended by adding, under the table heading “Air Quality Implementation Plan for the State of Nevada” a new entry after the entry “Redesignation Request and Maintenance Plan for the Truckee Meadows Carbon Monoxide Non-Attainment Area (September 2005), excluding appendices B, C, and D” to read as follows:

§ 52.1470 Identification of plan.

* * * * *

(e) * * *

EPA-Approved Nevada Nonregulatory Provisions and Quasi-Regulatory Measures
Name of SIP provision | Applicable geographic or nonattainment area | State submittal date | EPA approval date | Explanation
Air Quality Implementation Plan for the State of Nevada ¹
* * * * * * *
Second 10-Year Maintenance Plan for the Truckee Meadows 8-Hour Carbon Monoxide Attainment Area, August 28, 2014 | Truckee Meadows, Washoe County | 11/7/14 | [INSERT Federal Register CITATION] (8/30/16) | Fulfills requirement for second ten-year maintenance plan. Includes motor vehicle emissions budgets for 2015, 2020, 2025 and 2030.
* * * * * * *
¹ The organization of this table generally follows from the organization of the State of Nevada's original 1972 SIP, which was divided into 12 sections. Nonattainment and maintenance plans, among other types of plans, are listed under Section 5 (Control Strategy). Lead SIPs and Small Business Stationary Source Technical and Environmental Compliance Assistance SIPs are listed after Section 12 followed by nonregulatory or quasi-regulatory statutory provisions approved into the SIP. Regulatory statutory provisions are listed in 40 CFR 52.1470(c).

* * * * *

[FR Doc. 2016-20662 Filed 8-29-16; 8:45 am]

BILLING CODE 6560-50-P